DEPARTMENT OF TRANSPORTATION

Federal Aviation Administration

14 CFR Part 39

[Docket No. FAA-2012-0772; Directorate Identifier 2007-SW-053-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France (Eurocopter) Model EC130 B4 helicopters with a cabin vibration damper installed. This proposed AD is prompted by a crack and failure of a cabin vibration damper blade. The proposed actions are intended to modify the cabin vibration damper assembly to prevent contact with the flight controls in the event of a cabin vibration blade failure, jamming of a flight control, and subsequent loss of control of the helicopter.

DATES: We must receive comments on this proposed AD by September 24, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 Forum Drive Grand Prairie, TX 75053-4005, telephone (800) 232-0323, fax (972) 641-3710, or at http://www.eurocopter.com. You may review copies of the referenced service information at the FAA, Office of the Regional Counsel, Southwest Region, 2601 Meacham Blvd., Room 663, Fort Worth, Texas 76137.

FOR FURTHER INFORMATION CONTACT: Gary Roach, Aerospace Engineer, FAA, Regulations and Policy Group, 2601 Meacham Blvd., Fort Worth, Texas 76137; telephone: (817) 222-5130, fax: 817-222-5961; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2006-0278, dated September 7, 2006 (AD 2006-0278), to correct an unsafe condition for Eurocopter Model EC130 B4 helicopters. EASA advises of a cracked cabin vibration damper blade, which could lead to jamming of a flight control.

FAA's Determination

This helicopter model is manufactured in France and is type certificated for operation in the United States under the provisions of 14 CFR 21.29 and the applicable bilateral agreement. Pursuant to the applicable bilateral agreement, EASA has kept the FAA informed of the situation described above. The FAA has examined the findings of EASA, reviewed all available information, and determined that AD action is necessary for helicopters of this type design that are certificated for operation in the United States.

We are proposing this AD because we evaluated all known relevant information and determined that an unsafe condition is likely to exist or develop on other helicopters of the same type design.

Related Service Information

Eurocopter has issued Alert Service Bulletin (ASB) No. 53A008, Revision 0, dated July 19, 2006 (ASB 53A008), which supersedes ASB No. 05A002, Revision 0, dated July 18, 2006, and specifies installing a cabin vibration damper containment device. EASA classified ASB 53A008 as mandatory and issued AD 2006-0278 to ensure the continued airworthiness of these helicopters.

Proposed AD Requirements

This proposed AD would require, depending on the modification status of the helicopter, complying with certain portions of ASB 53A008.

Differences Between This Proposed AD and the EASA AD

The EASA AD requires two daily visual inspections for cracks in the blade of each cabin vibration damper and replacement of a blade if there is a crack; this proposed AD does not. The EASA AD requires compliance by a calendar date. This proposed AD requires compliance within 100 hours time-in-service.

Costs of Compliance

We estimate that this proposed AD would affect 122 helicopters of U.S. registry. We estimate that operators may incur the following costs in order to comply with this AD.

• $340 for 4 work hours to install a vibration damper casing assembly at an average labor rate of $85 per work hour,

• $1,500 for required parts per helicopter, and

• $224,480 total cost for the fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2012-0772; Directorate Identifier 2007-SW-053-AD.

(a) Applicability

This AD applies to Model EC130 B4 helicopters with a cabin vibration damper installed, except those modified in accordance with Modification 073565, certificated in any category.

(b) Unsafe Condition

This AD defines the unsafe condition as a cracked cabin vibration damper blade. This condition could result in failure of the blade, jamming of the flight controls, and subsequent loss of control of the helicopter.

(c) Compliance

You are responsible for performing each action required by this AD within the specified compliance time unless it has already been accomplished prior to that time.

(d) Required Actions

Within the next 100 hours time-in-service:

(1) For helicopters that have not been modified in accordance with Modification 073521 or Modification 073525, install a vibration damper casing assembly on both sides of the helicopter by following paragraphs 2.B.2.a, and 2.B.5 of the Accomplishment Instructions of Eurocopter Alert Service Bulletin (SB) No. 53A008, dated July 19, 2006 (ASB 53A008).

(2) For helicopters that have been modified in accordance with Modification 073521 either at the time of manufacture or pursuant to Eurocopter SB No. 53-006, Revision 1, dated September 30, 2004; or Modification 073525 either at the time of manufacture or pursuant to Eurocopter SB No. 53-007, Revision 1, dated February 19, 2007, install a vibration damper casing assembly on both sides of the helicopter by following paragraphs 2.B.3.a, 2.B.3.b, and 2.B.5 of the Accomplishment Instructions of ASB 53A008.

(e) Alternative Methods of Compliance (AMOC)

(1) The Manager, Rotorcraft Standards Staff, FAA, may approve AMOCs for this AD. Send your proposal to Gary Roach, Aerospace Engineer, FAA, 2601 Meacham Blvd., Fort Worth, Texas 76137; telephone: (817) 222-5130, fax 817-222-5961; email gary.b.roach@faa.gov.

(2) For operations conducted under 14 CFR part 119 operating certificate or under 14 CFR part 91, subpart K, we suggest that you notify your principal inspector, or lacking a principal inspector, the manager of the local flight standards district office or certificate holding district office before operating any aircraft complying with this AD through an AMOC.

(f) Additional Information

(1) Eurocopter Service Bulletin (SB) No. 53-006, Revision 1, dated September 30, 2004; SB No. 53-007, Revision 1, dated February 19, 2007; and Alert SB No. 05A002, Revision 0, dated July 18, 2006, which are not incorporated by reference, contain additional information about the subject of this AD. For service information identified in this proposed AD, contact American Eurocopter Corporation, 2701 Forum Drive, Grand Prairie, TX 75053-4005, telephone (800) 232-0323, fax (972) 641-3710, or at http://www.eurocopter.com. You may review the referenced service information at the FAA, Office of the Regional Counsel, Southwest Region, 2601 Meacham Blvd., Room 663, Fort Worth, Texas 76137.

(2) The subject of this AD is addressed in European Aviation Safety Agency AD No. 2006-0278, dated September 7, 2006.

(g) Subject

Joint Aircraft Service Component (JASC) Code: 1810 Helicopter Vibration Analysis.

Issued in Fort Worth, Texas, on July 18, 2012.
Kim Smith,
Manager, Rotorcraft Directorate, Aircraft Certification Service.

[FR Doc. 2012-18256 Filed 7-25-12; 8:45 am]

BILLING CODE 4910-13-P